DEPARTMENT OF ENERGY

Federal Energy Regulatory Commission

[Project No. 2634]

Great Northern Paper, Inc.; Notice of Final Restricted Service List for Comments on a Programmatic Agreement for Managing Properties Included in or Eligible for Inclusion in the National Register of Historic Places

December 11, 2001.

On September 24, 2001, the Federal Energy Regulatory Commission (Commission) issued a notice for the Storage Project (FERC No. 2634-007) proposing to establish a restricted service list for the purpose of developing and executing a Programmatic Agreement (PA) for managing properties included in or eligible for inclusion in the National Register of Historic Places. On November 21, 2001, the Commission issued a notice modifying the restricted service list for the purpose of revising the participates. The Storage project is located in Piscataquis and Somerset Counties in Maine. Great Northern Paper, Inc. is the licensee.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established. The following change to the existing restricted service list is noted.

¹18 CFR 385.2010.

Add “Donald Soctomah, Passamaquoddy Tribe, PO Box 301, Princeton, Maine 04668”.

As a result of these changes, the final restricted service list for purposes of commenting on the PA, for Project No. P-2634 is as follows:

Dr. Laura Henley Dean,Advisory Council on Historic Preservation,The Old Post Office Building, Suite 803,1100 Pennsylvania Avenue, NW.,Washington, DC 20004.

Earle G. Shettleworth, Jr.,State Historic Preservation Officer,Maine Historic Preservation Commission, 55 Capitol Street, 65 State House Station, Augusta, Maine 04333.

Brian R. Stetson, Manager of Environmental Affairs, Great Northern Paper, Inc., Engineering and Research Building, 1 Katahdin Ave.,Millinocket, Maine 04462-1373.

Gregory W. Sample, Drummond Woodsum & MacMahon, 245 Commercial Street, PO Box 9781, Portland, Maine 04104-5081.

Land and Water Associates, 9 Union Street,Hallowell, Maine 04347.

M. Kirstin Rohrer, Office of the Solicitor, MS-6456, 1849 C St., NW., Washington, DC 20240.

Judith M. Stolfo, Office of the Regional Solicitor, One Gateway Center, Suite 612, Newton, Massachusetts 02458-02802.

Barry Dana, Chief, Penobscot Indian Nation, River Road; Indian Island, Old Town, Maine 04468.

Franklin Keel, Bureau of Indian Affairs, Eastern Regional Office, 711 Stewarts Ferry Pike, Nashville, Tennessee 37214.

Donald Soctomah, Passamaquoddy Tribe, PO Box 301, Princeton, Maine 04668.

Kevin R. Mendik, National Park Service, Northeast Field Area, 15 State Street, Boston, Massachusetts 02109.

Linwood A. Watson, Jr.,
Acting Secretary.

[FR Doc. 01-31084 Filed 12-17-01; 8:45 am]

BILLING CODE 6717-01-P